FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 3, 2015.

A. Federal Reserve Bank of Chicago (Colette A. Fried, Assistant Vice President) 230 South LaSalle Street, Chicago, Illinois 60690-1414:

1. The Donald Davis Living Trust, West Bloomfield Township, Michigan, and Kenneth Kelly as trustee, McDonough, Georgia; to acquire control of 25 percent or more of the voting shares of First Independence Corporation, and thereby indirectly acquire control of First Independence Bank, both of Detroit, Michigan.

B. Federal Reserve Bank of Minneapolis (Jacquelyn K. Brunmeier, Assistant Vice President) 90 Hennepin Avenue, Minneapolis, Minnesota 55480-0291:

1. HCR Trust U/A dated August 14, 1986, as amended, Excelsior, Minnesota, Beth Ann Brackett, Excelsior, Minnesota, Trustee, Michael M. Reget, Plymouth, Minnesota, Trustee, and Thomas Kaliher, Waconia, Minnesota, Trustee; to retain 25 percent or more of the shares of Hamburg Financial, Inc., Excelsior, Minnesota, and thereby indirectly retain control of State Bank of Hamburg, Hamburg, Minnesota and Poe Investment Company, Excelsior, Minnesota, and thereby indirectly retain control of Farmers and Merchants State Bank of Sacred Heart, Sacred Heart, Minnesota.

Board of Governors of the Federal Reserve System, October 15, 2015.
Michael J. Lewandowski,
Associate Secretary of the Board.

[FR Doc. 2015-26628 Filed 10-20-15; 8:45 am]

BILLING CODE 6210-01-P